DEPARTMENT OF ENERGY

Federal Energy Regulatory Commission

[Docket No. RP00-108-000]

Questar Pipeline Company; Notice of Cancellation of Technical Conference

April 18, 2000.

Take ntoice that the technical conference scheduled for Wednesday, April 26, 2000, in the above-referenced proceeding has been canceled. The conference will be rescheduled at a later date.

David P. Boergers,
Secretary.

[FR Doc. 00-10109 Filed 4-21-00; 8:45 am]

BILLING CODE 6717-01-M